DEPARTMENT OF THE TREASURY

Customs Service

Renewal of the Generalized System of Preferences

AGENCY: Customs Service, Treasury.

ACTION: General notice.

SUMMARY: The Generalized System of Preferences (GSP) is a renewable preferential trade program that allows the eligible products of designated developing countries to directly enter the United States free of duty. The GSP program expired on June 30, 1999, but has been renewed through September 30, 2001, effective December 17, 1999, with retroactive effect to July 1, 1999, by a provision in the Ticket To Work and Work Incentives Improvement Act of 1999. This document provides notice to importers that Customs is again accepting claims for GSP duty-free treatment for merchandise entered, or withdrawn from a warehouse, for consumption and that Customs is processing refunds on all duties paid, with interest from the date the duties were deposited, on GSP-eligible merchandise that was entered during the period that the GSP program was lapsed.

FOR FURTHER INFORMATION CONTACT: For general operational questions:

Formal entries: Leon Hayward, 202-927-9704

Informal entries: John Considine, 202-927-0042

Mail entries: Robert Woods, 202-927-1236

Passenger claims: Wes Windle, 202-927-0167

For specific questions relating to the Automated Commercial System: James Halpin, Office of Information and Technology, 703-921-7128.

Questions from filers regarding ABI transmissions should be directed to their ABI client representatives. Persons with other questions regarding this notice may contact Leon Hayward, International Agreements, 202-927-9704.

SUPPLEMENTARY INFORMATION:

Background

Section 501 of the Trade Act of 1974, as amended (19 U.S.C. 2461), authorizes the President to establish a Generalized System of Preferences (GSP) to provide duty-free treatment for eligible articles imported directly from designated beneficiary countries for specific time periods. Pursuant to 19 U.S.C. 2465, as amended by section 1011(a) of Pub. L. 105-277, 112 Stat. 2681, duty-free treatment under the GSP program expired on June 30, 1999.

On December 17, 1999, the President signed the Ticket To Work and Work Incentives Improvement Act of 1999 (Pub.L. 106-170, 113 Stat. 1860). Section 508 of Pub. L. 106-170 pertains to the extension of duty-free treatment and the retroactive application for certain liquidations and reliquidations under the GSP. Section 508 provides that GSP duty-free treatment shall be applied to eligible articles from designated beneficiary countries that are entered, or withdrawn from warehouse, for consumption on or after July 1, 1999, through September 30, 2001. Further, regarding any entries made after June 30, 1999 through December 16, 1999, to which duty-free treatment would have applied if GSP had been in effect during that time period, any duty paid with respect to any such entry shall be refunded provided that a request for liquidation or reliquidation of that entry, containing sufficient information to enable Customs to locate the entry or to reconstruct the entry if it cannot be located, is filed with Customs by June 14, 2000 (within 180 days after the date of Pub. L. 106-170's enactment).

Recognizing the impact that retroactive renewal and consequent numerous reliquidations will have on both importers and Customs, Customs developed a mechanism to facilitate refunds (see, Federal Register Notice of June 4, 1997, 62 FR 30672). On January 7, 2000, Customs began processing refunds due to the recent renewal of the GSP. Customs expects the processing of refunds to take from four to eight weeks for certain formal Automated Broker Interface (ABI) entries.

Duty-Free Entry Summaries

Effective December 17, 1999, filers again are entitled to file GSP-eligible entry summaries without the payment of estimated duties.

Refunds With Interest

A. Formal Entries

Customs will liquidate or reliquidate all affected entry summaries and refund any duties deposited for items qualifying for GSP and for which requests for liquidation or reliquidation are timely filed. Field locations shall not issue GSP refunds except as instructed to do so by Customs Headquarters.

If an ABI entry summary was filed with payment of estimated duties using the Special Program Indicator (SPI) for the GSP (the letter “A”) as a prefix to the tariff number, no further action by the filer is required; filings with the SPI “A” will be treated as conforming requests for refunds. If an ABI entry summary was filed with payment of estimated duties without the use of the SPI “A” as a prefix to the tariff number, a refund of duties deposited must be requested in writing as described below for non-ABI entry summaries.

Non-ABI filers must request a refund in writing from the Port Director at the port of entry by June 14, 2000, regardless if they previously designated a refund on the Customs Form 7501 by using the SPI “A” code. The letter may cover either single entry summaries or all entry summaries filed by an individual filer at a single port. To expedite refunds, Customs recommends the following information be included in each letter:

1. A statement requesting a refund, as provided by section 508 of the Ticket To Work and Work Incentives Improvement Act of 1999;

2. An enumeration of the entry numbers and line items for which refunds are requested; and

3. The amount requested to be refunded for each line item and the total amount owed for all entry summaries.

Interest on duties deposited will be paid, pursuant to section 505 of the Tariff Act of 1930, as amended (19 U.S.C. 1505), based on the quarterly Internal Revenue Service interest rates used to calculate interest on refunds of Customs duties as follows:

| July 1, 1999- December 16, 1999
Corporate Rate | 7%
Non-Corporate Rate | 8%

B. Informal Entries Filed via ABI

Refunds with interest on informal entries filed via ABI on a Customs Form 7501 with the SPI “A” will be processed in accordance with the procedures discussed above.

C. Mail Entries

The addressees on mail entries must request a refund of GSP duties and return it, along with a copy of the CF 3419A, to the appropriate International Mail Branch (address listed on bottom right hand corner of CF 3419A). It is essential that a copy of the CF 3419A be included, as this will be the only means of identifying whether GSP products have been entered and estimated duties and fees have been paid.

D. Baggage Declarations and Non-ABI Informals

If travelers/importers wrote a statement directly on their Customs declarations (CF 6059B) or informal entries (CF 363 or CF 7501) requesting a refund, no further action by the traveler/importer will be required; the statement will be treated as a conforming request for a refund. Failure to request a refund in this manner does not preclude a traveler/importer from otherwise making a timely request in writing, as described above for non-ABI filers.

Dated: February 25, 2000.
Robert J. McNamara,
Acting Assistant Commissioner, Field Operations.

[FR Doc. 00-5081 Filed 3-1-00; 8:45 am]

BILLING CODE 4820-02-P